DEPARTMENT OF LABOR

Employment and Training Administration

[TA-W-65,357]

Kelly Lumber, Ashland, ME; Notice of Termination of Investigation

Pursuant to Section 221 of the Trade Act of 1974, as amended, an investigation was initiated on February 24, 2009 in response to a worker petition filed the Maine TAA Coordinator on behalf of workers at Kelly Lumber, Ashland, Maine.

The petitioner has requested that the petition be withdrawn. Consequently, the investigation has been terminated.

Signed at Washington, DC, this 19th day of March 2009.
Richard Church,
Certifying Officer, Division of Trade Adjustment Assistance.

[FR Doc. E9-7758 Filed 4-6-09; 8:45 am]

BILLING CODE 4510-FN-P